FEDERAL ELECTION COMMISSION

Sunshine Act Meetings

TIME AND DATE: Tuesday, June 4, 2024 at 10 a.m. and its continuation at the conclusion of the open meeting on June 6, 2024.

PLACE: 1050 First Street NE, Washington, D.C. and virtual (this meeting will be a hybrid meeting.).

STATUS: This meeting will be closed to the public.

MATTERS TO BE CONSIDERED: Compliance matters pursuant to 52 U.S.C. 30109. Matters relating to internal personnel decisions, or internal rules and practices. Matters concerning participation in civil actions or proceedings or arbitration.

* * * * *

CONTACT PERSON FOR MORE INFORMATION: Judith Ingram, Press Officer, Telephone: (202) 694-1220.

(Authority: Government in the Sunshine Act, 5 U.S.C. 552b)

Vicktoria J. Allen,
Deputy Secretary of the Commission.

[FR Doc. 2024-11716 Filed 5-23-24; 11:15 am]

BILLING CODE 6715-01-P